DEPARTMENT OF JUSTICE

[OMB Number 1105-0082]

Executive Office for United States Attorneys; Agency Information Collection Activities: Proposed Collection; Comments Requested

ACTION: 30-Day notice of information collection under review: Office of Legal Education Nomination/Confirmation Form.

The Department of Justice (DOJ), Executive Office for Unites States Attorneys, (EOUSA,) has submitted the following information collection request to the Office of Management and Budget (OMB) for review and approval in accordance with the Paperwork Reduction Act of 1995. The proposed information collection is published to obtain comments from the public and affected agencies. This proposed information collection was previously published in the Federal Register Volume 71, Number 187, page 56551-56552 on September 27, 2006, allowing for a 60-day comment period.

The purpose of this notice is to allow for an additional 30 days for public comment until January 4, 2007. This process is conducted in accordance with 5 CFR 1320.10.

Written comments and/or suggestions regarding the items contained in this notice, especially the estimated public burden and associated response time, should be directed to The Office of Management and Budget, Office of Information and Regulatory Affairs, Attention Department of Justice Desk Officer, Washington, DC 20503, or facsimile (202) 395-5806.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Existing collection in use without an OMB control number.

(2) Title of the Form/Collection: National Advocacy Center Nomination Form.

(3) Agency form number, if any, and the applicable component of the department sponsoring the collection: DOJ Form Number, none. Office of Legal Education, Executive Office for United States Attorneys, Department of Justice.

(4) Affected public who will be asked or required to respond, as well as a brief abstract: Respondents will be current and potential users of agency training services. Respondents may represent Federal agencies, as well as State, local, and tribal governments. The Executive Office for United States Attorneys will use the collected information to select class participants, arrange for transportation and reserve rooms; have an address to contact the participant, and an emergency contact.

(5) An estimate of the total number of respondents and the amount of time estimated for an average respondent to respond: It is estimated that there will be 21,000 responses annually. It is estimated that each form will take 5 minutes to complete.

(6) An estimate of the total public burden (in hours) associated with this collection: An estimate of the total hour burden to conduct this survey is 1750 hours.

If additional information is required contact: Lynn Bryant, Department Clearance Officer, United States Department of Justice, Policy and Planning Staff, Justice Management Division, Suite 1600, Patrick Henry Building, 601 D Street, NW., Washington, DC 20530.

Dated: November 30, 2006.
Lynn Bryant,
Department Clearance Officer, U.S. Department of Justice.

[FR Doc. E6-20581 Filed 12-4-06; 8:45 am]

BILLING CODE 4410-07-P